DEPARTMENT OF DEFENSE

Department of the Navy

Notice of Intent To Grant Partially Exclusive Patent License; Jinga-hi, Inc.

AGENCY: Department of the Navy, DoD.

ACTION: Notice.

SUMMARY: The Department of the Navy herby gives notice of its intent to grant to Jinga-hi, Inc., a revocable, nonassignable, partially exclusive license in the United States to practice the Government-owned inventions described in U.S. Patent No. 7,420,366: Coupled Nonlinear Sensor System.//U.S. Patent No. 7,714,671: Wideband Nonlinear “Channelizer” for Rapid Processing of Static and Time-varying Signals.//U.S. Patent No. 7,777,535: Coupled Nonlinear Elements for Frequency Down-conversion Systems and Methods.//U.S. Patent No. 7,902,931: Wideband Nonlinear Circuits for Implementation in Frequency Channel.//U.S. Patent No. 8,165,557: Frequency Down-conversion System Using Arrays of Coupled Non-linear Elements.//U.S. Patent No. 8,174,325: Adaptive Injection-locked Oscillator Array for Broad Spectrum RF Analysis.//U.S. Patent No. and 8207763: Non-linear Channelizer Device with Wideband, High-frequency Operation and Channel Reconfigurability.

DATES: Anyone wishing to object to the grant of this license must file written objections along with supporting evidence, if any, no later than December 6, 2012.

ADDRESSES: Written objections are to be filed with the Office of Research and Technology Applications, Space and Naval Warfare Systems Center Pacific, Code 72120, 53560 Hull St, Bldg A33 Room 2531, San Diego, CA 92152-5001.

FOR FURTHER INFORMATION CONTACT: Brian Suh, Office of Research and Technology Applications, Space and Naval Warfare Systems Center Pacific, Code 72120, 53560 Hull St, Bldg A33 Room 2531, San Diego, CA 92152-5001, telephone 619-553-5118, Email: brian.suh@navy.mil.

Authority: 35 U.S.C. 207, 37 CFR part 404.

Dated: November 14, 2012,
C. K. Chiappetta,
Lieutenant Commander, Office of the Judge Advocate General, U.S. Navy, Federal Register Liaison Officer.

[FR Doc. 2012-28281 Filed 11-20-12; 8:45 am]

BILLING CODE 3810-FF-P